DEPARTMENT OF THE TREASURY

Internal Revenue Service

26 CFR Part 54

[TD 9298]

RIN 1545-AY32

Nondiscrimination and Wellness Programs in Health Coverage in the Group Market; Correction

AGENCY: Internal Revenue Service (IRS), Treasury.

ACTION: Correcting amendments.

SUMMARY: This document contains correction to final regulations (TD 9298) that were published in the Federal Register on Wednesday, December 13, 2006 (71 FR 75014) governing the provisions prohibiting discrimination based on a health factor for group health plans and issuers of health insurance coverage offered in connection with a group health plan.

DATES: The correction is effective February 12, 2007.

FOR FURTHER INFORMATION CONTACT: Russ Weinheimer, (202) 622-6080 (not a toll-free number).

SUPPLEMENTARY INFORMATION:

Background

The correction notice that is the subject of this document is under section 9802 of the Internal Revenue Code.

Need for Correction

As published, final regulations (TD 9298) contain errors that may prove to be misleading and are in need of clarification.

List of Subjects in 26 CFR Part 54

Excise taxes, Health care, Health insurance, Pensions, Reporting and recordkeeping requirements.

Correction of Publication

Accordingly, 26 CFR part 54 is corrected by making the following correcting amendments:

PART 54—PENSION EXCISE TAXES

Paragraph 1. The authority citation for part 54 continues to read, in part, as follows:

Authority: 26 U.S.C. 7805 * * *

Par. 2. Section 54.9802-1(b)(2)(i)(D) is amended by revising paragraph (ii) of Example 4.

Par. 3. Section 54.9802-1(f)(1) is amended by revising the first sentence of the paragraph.

The revisions read as follows:

§ 54.9802-1 Prohibiting discrimination against participants and beneficiaries based on a health factor.

* * * * *

(b) * * *

(2) * * *

(i) * * *

(D) * * *

Example 4. * * *

(i) * * *

(ii) Conclusion. In this Example 4, the limit does not violate this paragraph (b)(2)(i) because $2,000 of benefits for the treatment of TMJ are available uniformly to all similarly situated individuals and a plan may limit benefits covered in relation to a specific disease or condition if the limit applies uniformly to all similarly situated individuals and is not directed at individual participants or beneficiaries. (This example does not address whether the plan provision is permissible under the Americans with Disabilities Act or any other applicable law.)

* * * * *

(f) * * *

(1) If none of the conditions for obtaining a reward under a wellness program are based on an individual satisfying a standard that is related to a health factor (or if a wellness program does not provide a reward), the wellness program does not violate this section, if participation in the program is made available to all similarly situated individuals. * * *

* * * * *

LaNita Van Dyke,
Chief, Publications and Regulations Branch, Legal Processing Division, Associate Chief Counsel, (Procedure and Administration).

[FR Doc. E7-2958 Filed 2-21-07; 8:45 am]

BILLING CODE 4830-01-P